DEPARTMENT OF TRANSPORTATION

Office of the Secretary

49 CFR Part 19

[Docket No. OST—2004-18517]

RIN 2105-AC83

Uniform Administrative Requirements for Grants and Agreements With Institutions of Higher Education, Hospitals, and Other Non-Profit Institutions

AGENCY: Office of the Secretary (OST), DOT.

ACTION: Final rule.

SUMMARY: The U.S. Department of Transportation (DOT) is issuing a final rule on the changes to OMB Circular A-110, “Uniform Administrative Requirements for Grants and Agreements with Institutions of Higher Education, Hospitals, and Other Non-Profit Institutions,” which OMB published as agency guidance in the Federal Register on March 16, 2000, in Volume 65, Number 52, page 144051, and DOT codified as an interim final rule in the same document.

DATES: Effective Date: This rule is effective November 1, 2004.

FOR FURTHER INFORMATION CONTACT: Ladd Hakes, Business Policy Division, M-61, Office of the Senior Procurement Executive, Office of the Secretary, (202) 366-4268.

SUPPLEMENTARY INFORMATION: Congress included a two-sentence provision in the Office of Management and Budget's (OMB) appropriation for fiscal year 1999 directing OMB to amend Section _.36 of OMB Circular A-110 to “require Federal awarding agencies to ensure that all data produced under an award will be made available to the public through the procedures established under the Freedom of Information Act.” The provision also provided for a reasonable fee to cover the costs incurred in responding to a request. OMB Circular A-110 applies to grants and cooperative agreements to institutions of higher education, hospitals, and other non-profit institutions, from all Federal agencies.

OMB finalized the revision on September 30, 1999 (64 FR 54926, October 8, 1999). OMB published guidance to Federal agencies for adopting the revisions (65 FR 14405) on March 16, 2000, as an interim final rule. DOT adopted the guidance as an interim final rule in the same document. DOT now adopts the revisions as a final rule.

DOT did not receive any comments on the interim final rule. Consequently, the Department is adopting the interim final rule without change.

Regulatory Analyses and Notices

This is a significant regulatory action under Executive Order 12866 and the Department of Transportation's Regulatory Policies and Procedures, because it adopts as a final rule an earlier regulatory action which had been listed as significant.

The Regulatory Flexibility Act requires that, for each rule with a “significant economic impact on a substantial number of small entities,” an analysis must be prepared describing the rule's impact on small entities and identifying any significant alternatives to the rule that would minimize the economic impact on small entities. DOT certifies that this final rule will not have a significant impact on a substantial number of small entities. This rule concerns the information that Federally-funded researchers must provide in response to Freedom of Information Act requests.

The Unfunded Mandates Act requires agencies to prepare several analytic statements before proposing any rule that may result in annual expenditures of $100 million by State, local, Indian Tribal governments or the private sector. Since this final rule will not result in expenditures of this magnitude, DOT certifies that such statements are not necessary. This final rule will not impose additional reporting or recordkeeping requirements subject to the Paperwork Reduction Act.

Issued this 8th day of September, 2004, at Washington, DC.
Norman Y. Mineta,
Secretary of Transportation.

For the reasons stated in the preamble, the Department of Transportation adopts as a final rule that which was published as an interim final rule in the March 16, 2000, Federal Register (65 FR 14405).

[FR Doc. 04-21980 Filed 9-29-04; 8:45 am]

BILLING CODE 4910-62-P